DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 21, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: Horse Protection Regulations.

OMB Control Number: 0579-0056.

Summary of Collection: The Horse Protection Act (HPA) of 1970 (Pub. L. 91-540), as amended July 13, 1976 (Pub. L. 94-360), was enacted to prevent showing, exhibiting, selling, or auctioning of “sore” horses, and certain transportation of sore horses in connection therewith, at horse shows, horse exhibitions, horse sales, and horse auctions. “Soring” is a process whereby chemical or mechanical agents, or a combination thereof, are applied to the limbs of a horse in order to exaggerate its gait. A “sore” horse is one that has been subjected to prohibited practices and, as a result, suffers, or can reasonably be expected to suffer, physical pain or distress, inflammation, or lameness when walking, trotting or otherwise moving. A horse that is “sore” is prohibited from entering or participating in HPA-regulated events because exhibitors, owners, and trainers of such horse may obtain unfair advantage over individuals exhibiting horses that are not “sore.”

Need and Use of the Information: APHIS uses the following information collection activities to enforce the Horse Protection Act:

Access to and Inspection of Event Management Records;

Request for Certification of DQP Program and Detailed Outline of Such a Program, Including Standards of Conduct and Procedures for Enforcing Such Standards;

List of DQPs and Notification to USDA of Changes to the List and Any Warnings or Revocations Issued to Any DQP;

HIO Report of Violations and Recordkeeping;

Certified DQP Program Written Warning to DQP of Unsatisfactory Performance;

Certified DQP Program Cancellation of DQP License After Warning;

Request by DQP to USDA to Appeal License Cancellation;

Appeal of Revocation and DQP Access to Records (previously titled Appeal of Revocation);

Written Notification to USDA and Certified DQP Programs by Event Management of Unsatisfactory DQP Performance;

Records of Events Containing Tennessee Walking Horses or Racking Horses Maintained by Management;

Providing Contact Information for Recordkeeper;

Inspection of Horse Industry Organization Records;

Management Report to USDA of Any Regulated Horse Event Involving Tennessee Walking Horses or Racking Horses;

Management Report to USDA of Any Regulated Horse Event Not Involving Tennessee Walking Horses or Racking Horses;

Required Information in Rulebooks and Rulebook Submission;

Appeals and Reports; and

Certified DQP Program Quarterly Reports on Disciplinary Action and Recordkeeping (previously titled Certified DQP Program Quarterly Reports on Disciplinary Actions);

If the information were collected less frequently or not collected, APHIS would not be able to accurately assess compliance with the HPA.

Description of Respondents: Business or not-for-profit; individuals and households.

Number of Respondents: 442.

Frequency of Responses: Recordkeeping; reporting.

Total Burden Hours: 2,650.

Ruth Brown,
Departmental Information Collection Clearance Officer.

[FR Doc. 2022-25255 Filed 11-18-22; 8:45 am]

BILLING CODE 3410-34-P